SMALL BUSINESS ADMINISTRATION

[Disaster Declaration # 10482 and # 10481]

Massachusetts Disaster Number MA-00006

AGENCY: Small Business Administration.

ACTION: Amendment 2.

SUMMARY: This is an amendment of the Presidential declaration of a major disaster for the Commonwealth of Massachusetts ( FEMA-1642-DR), dated 05/25/2006.

Incident: Severe Storms and Flooding.

Incident Period: 05/12/2006 through 05/23/2006.

Effective Date: 07/24/2006.

Physical Loan Application Deadline Date: 08/07/2006.

EIDL Loan Application Deadline Date: 02/26/2007.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416

SUPPLEMENTARY INFORMATION: The notice of the President's major disaster declaration for the Commonwealth of Massachusetts, dated 05/25/2006, is hereby amended to extend the deadline for filing applications for physical damages as a result of this disaster to 08/07/2006.

All other information in the original declaration remains unchanged.

(Catalog of Federal Domestic Assistance Numbers 59002 and 59008)

Herbert L. Mitchell,
Associate Administrator for Disaster Assistance

[FR Doc. E6-12414 Filed 8-1-06; 8:45 am]

BILLING CODE 8025-01-P